DEPARTMENT OF TRANSPORTATION

Maritime Administration

U.S. Maritime Transportation System National Advisory Committee; Notice of Public Meeting

AGENCY: Maritime Administration, Department of Transportation.

ACTION: Notice of public meeting.

SUMMARY: The Maritime Administration (MARAD) announces a public meeting of the U.S. Maritime Transportation System National Advisory Committee (MTSNAC) to discuss advice and recommendations for the U.S. Department of Transportation on issues related to the marine transportation system.

DATES: The webinar-based (online) public meeting will be held on Wednesday, July 15, 2020, from 1 p.m. to 4:00 p.m. Eastern Daylight Time (EDT). Requests to speak during the public comment period of the meeting must submit a written copy of their remarks to DOT no later than by Wednesday, July 8, 2020. Requests to submit written materials to be reviewed during the meeting must be received by Wednesday, July 8, 2020.

ADDRESSES: The meeting will be held via webinar, accessible via most internet browsers. The website link to join the meeting will be posted on the MTSNAC website by Wednesday, July 8, 2020. Please visit the MTSNAC website at https://www.maritime.dot.gov/outreach/maritime-transportation-system-mts/maritimetransportation-system-national-advisory-O.

FOR FURTHER INFORMATION CONTACT: Amanda Rutherford, Designated Federal Officer, at MTSNAC@dot.gov or at (202) 366-1332. Maritime Transportation System National Advisory Committee, 1200 New Jersey Avenue SE W21-307, Washington, DC 20590. Any committee related request should be sent to the person listed in this section.

SUPPLEMENTARY INFORMATION:

I. Background

The MTSNAC is a Federal advisory committee that advises the U.S. Secretary of Transportation through the Maritime Administrator on issues related to the marine transportation system. The MTSNAC was originally established in 1999 and mandated in 2007 by the Energy Independence and Security Act of 2007 (Pub. L. 110-140). The MTSNAC is codified at 46 U.S.C. 55603 and operates in accordance with the provisions of the Federal Advisory Committee Act (FACA).

II. Agenda

The agenda will include: (1) Welcome, opening remarks, and introductions; (2) administrative items; (3) subcommittee break-out sessions; (4) refining recommendations for the maritime transportation system for the full MTSNAC committee to vote and adopt during the September 28-29, 2020 meeting. The agenda will include updates to the Committee on the subcommittee research, processes for developing their recommendations, and a second look at the subcommittee's draft implementation strategies to help achieve the recommendations; and (5) public comments. A detailed agenda will be posted on the MTSNAC internet website at https://www.maritime.dot.gov/outreach/maritime-transportation-system-mts/maritimetransportation-system-national-advisory-O at least one week in advance of the meeting.

III. Public Participation

The meeting will be open to the public.

Services for Individuals with Disabilities: The public meeting is accessible to people with disabilities. The U.S. Department of Transportation is committed to providing equal access to this meeting for all participants. If you need alternative formats or services because of a disability, such as sign language, interpretation, or other ancillary aids, please contact the person listed in the FOR FURTHER INFORMATION CONTACT section.

Public Comments: A public comment period will commence at approximately 3 p.m. EST on July 15, 2020. To provide time for as many people to speak as possible, speaking time for each individual will be limited to three minutes. Members of the public who would like to speak are asked to contact the person listed in the FOR FURTHER INFORMATION CONTACT section. Commenters will be placed on the agenda in the order in which notifications are received. If time allows, additional comments will be permitted. Copies of oral comments must be submitted in writing at the meeting or preferably emailed to the person listed in the FOR FURTHER INFORMATION CONTACT section.

Written Comments: Persons who wish to submit written comments for consideration by the Committee must send them to the person listed in the FOR FURTHER INFORMATION CONTACT section.

(Authority: 49 CFR 1.93(a); 5 U.S.C. 552b; 41 CFR part 102-3; 5 U.S.C. app. Sections 1-16)

Dated: June 26, 2020.
By Order of the Maritime Administrator.
T. Mitchell Hudson, Jr.,
Secretary, Maritime Administration.

[FR Doc. 2020-14204 Filed 6-30-20; 8:45 am]

BILLING CODE 4910-81-P